INTERNATIONAL TRADE COMMISSION

[Investigations Nos. 731-TA-1006-1009 (Preliminary)]

Urea Ammonium Nitrate Solutions From Belarus, Lithuania, Russia, and Ukraine

Determinations

On the basis of the record ¹ developed in the subject investigations, the United States International Trade Commission determines, pursuant to section 733(a) of the Tariff Act of 1930 (19 U.S.C. 1673b(a)) (the Act), that there is a reasonable indication that an industry in the United States is materially injured by reason of imports from Belarus, Russia, and Ukraine of urea ammonium nitrate solutions, provided for in subheading 3102.80.00 of the Harmonized Tariff Schedule of the United States, that are alleged to be sold in the United States at less than fair value (LTFV). The Commission has determined that U.S. imports from Lithuania are negligible.²

¹ The record is defined in sec. 207.2(f) of the Commission's Rules of Practice and Procedure (19 CFR 207.2(f)).

² Commissioner Lynn M. Bragg, however, further finds that subject imports of urea ammonium nitrate solutions from Lithuania will imminently account for more than 3 percent of total import volume of all such merchandise, and determines that there is a reasonable indication that an industry in the United States is threatened with material injury by reason of imports of the subject merchandise from Lithuania that are alleged to be sold at LTFV.

Pursuant to section 207.18 of the Commission's rules, the Commission also gives notice of the commencement of the final phase of its investigations with regard to Belarus, Russia, and Ukraine. The Commission will issue a final phase notice of scheduling, which will be published in the Federal Register as provided in section 207.21 of the Commission's rules, upon notice from the Department of Commerce of an affirmative preliminary determination in the investigation under section 733(b) of the Act, or, if the preliminary determinations are negative, upon notice of affirmative final determinations in those investigations under section 735(a) of the Act. Parties that filed entries of appearance in the preliminary phase of these investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigation.

Background

On April 19, 2002, a petition was filed with the Commission and Commerce by the Nitrogen Solutions Fair Trade Committee, an ad hoc coalition of U.S. producers of urea ammonium nitrate solutions, which consists of CF Industries, Inc. of Long Grove, IL; Mississippi Chemical Corp. of Yazoo City, MS; and Terra Industries, Inc. of Sioux City, IA, alleging that an industry in the United States is materially injured or threatened with material injury by reason of LTFV imports of urea ammonium nitrate solutions from Belarus, Lithuania, Russia, and Ukraine. Accordingly, effective April 19, 2002, the Commission instituted antidumping duty investigations Nos. 731-TA-1006-1009 (Preliminary).

Notice of the institution of the Commission's investigations and of a public conference to be held in connection therewith was given by posting copies of the notice in the Office of the Secretary, U.S. International Trade Commission, Washington, DC, and by publishing the notice in the Federal Register of April 29, 2002 (67 FR 20994). The conference was held in Washington, DC, on May 10, 2002, and all persons who requested the opportunity were permitted to appear in person or by counsel.

The Commission transmitted its determinations in these investigations to the Secretary of Commerce on June 3, 2002. The views of the Commission are contained in USITC Publication 3517 (June 2002), entitled Urea Ammonium Nitrate Solutions from Belarus, Lithuania, Russia, and Ukraine: Investigations Nos. 731-TA-1006-1009 (Preliminary).

Issued: June 4, 2002.
By order of the Commission.
Marilyn R. Abbott,
Secretary.

[FR Doc. 02-14387 Filed 6-6-02; 8:45 am]

BILLING CODE 7020-02-P